DEPARTMENT OF HEALTH AND HUMAN SERVICES

Substance Abuse and Mental Health Services Administration

Statement of Organization, Functions, and Delegations of Authority

Part M of the Substance Abuse and Mental Health Services Administration (SAMHSA) Statement of Organization, Functions, and Delegations of Authority for the Department of Health and Human Services (DHHS) is amended to reflect the new functional statement for the Office of Financial Resources (OFR) and the Office of Management, Technology and Operations (OMTO). This notice re-locates the Division of Management Services (DMS), excluding the ethics function, from OMTO to OFR. This change aligns DMS staff under the Director of OFR. The changes include:

Office of Financial Resources (MG)

The Office of Financial Resources (OFR) provides executive-level direction, advice and guidance to the Administrator and SAMHSA components on all aspects of budget, financial management, grants and acquisition management, and provides for the direction and implementation of these activities across the Agency. The OFR has several formal and informal roles.

• Chief Financial Officer (CFO). By delegation, exercises full Agency-wide authority of the responsibilities delineated in the Chief Financial Officers Act of 1990.

• Lead Agency Official for acquisitions responsible for contract policy, planning, review, and management.

• Lead Official for audits and financial statements.

• Lead Agency official for grant policy, planning, review and management.

• Lead official for the annual performance budget, responsible for the formulation, performance analysis and reporting, and presentation of the SAMHSA Budget and Performance Budget submitted to HHS and OMB.

Office of the Director (MG-1)

(1) Carries out all Chief Financial Officer functions provided by the Chief Financial Officers Act of 1990 including conducting the analyses necessary to provide agency managers with reliable financial, cost, and performance information both annually and throughout the year to manage programs and make difficult spending decisions; evaluates and improves financial management systems, controls, and operations to eliminate waste, fraud, abuse, and to improve management of assets; evaluates acquisition, grant, and contracting policy, practices and plans to cut costs and improve effectiveness and efficiencies; and establishes effective financial organizational structure and financial personnel requirements within the agency; (2) Provides advice and guidance to the Administrator on budget, financial management, and the alignment of program priorities with legislation and agency policies; (3) Represents the agency before OMB in matters of presentation of budgets, performance reporting and resolution of issues arising from the execution of final appropriations; (4) plans, administers, and coordinates the review of grant and cooperative agreement applications and contract proposals.

Office of Financial Advisory Services (MG1A)

Analyses financial and cost information for the Agency; (2) evaluates and improves financial management systems, controls, and operations to eliminate waste, fraud, abuse, and to improve management of assets; and (3) conducts audits and on site reviews of organizations who receive federal funds from SAMHSA to ensure compliance with Federal fiscal and management policies and reduce the risk of waste, fraud, and abuse.

Office of Management, Analysis, and Coordination (MG1B)

(1) Provides leadership, oversight, and guidance serving in the role of a central office for OFR, providing management, analysis, and coordination in support of the CFO and Director of OFR; (2) provides management support to the OFR Director including centralized communication and coordination within OFR and between OFR and other SAMHSA Offices and Centers; (3) serves as liaison with ASFR, OMB, ONDCP, and other external entities; (4) develops and executes Agency-wide procedures relating to implementation and management of the Government Performance and Results Act (GPRA); (5) manages and coordinates program assessment and performance reporting and prepares the Performance Appendix to the annual Performance Budget; (6) both annually and throughout the year conducts analyses of performance information to make difficult spending decisions; (7) represents the Agency in Department or government-wide activities to implement the development and implementation of performance measures and budget related performance planning, policies, requirements, and processes; (8) coordinates and manages General Accounting Office (GAO) and Office of Inspector General (OIG) reviews of the agency, analyzes results, and develops agency response; (9) coordinates with budget staff to evaluate proposed program initiatives to determine their policy, resource, and management implications as part of budget formulation; (10) coordinates with budget, policy, grant, contract, and program staff to develop plans for implementing programs and supporting activities insuring consistency with agency budget proposals and submissions and appropriations law and all other Federal laws, regulations, and policies; (11) conducts analyses of financial management system and activities to ensure effective internal controls, timely and reliable financial and performance data for reporting and system integration; (12) manages activities to analyze and improve program integrity, operations, internal controls, risk assessments and transparency; (13) develops extramural policy and guidance addressing peer and council review, interagency agreements, and jointly funded grant programs; (14) develops policy guidance for grants and contracts development processes, and monitors progress; and (15) administers human subject and participant protection policies and procedures and confidentiality certificate activities.

Division of Budget (MGA)

(1) Provides guidance, manages and coordinates the Agency budget plans and formulates and presents SAMHSA's future budget and financial management activities; (2) proposes budget options and policy initiatives as necessary to achieve program objectives established by the Administrator; (3) prepares budget justification documents which support the Administrator's priorities and decisions; (4) assists in the development of strategies for the presentation of the budget to the OMB and the Congress and develops materials for key Agency officials who testify at hearings before these bodies; (5) provides day-to-day liaison with budget staff at other levels; (6) establishes a financial management planning process for the development of strategic and tactical plans, and provides guidance and financial management indicators that enable the CFO to evaluate the financial management programs and activities of the agency; (7) evaluates internal fiscal controls to assure compliance with laws, regulations, policies; (8) conducts special reviews and analyses to examine assigned program operations and management effectiveness; (9) provides leadership and direction in the Agency-wide review, analysis and appraisal of financial elements of program execution and the development and execution of policies related to efficient allocation, expenditure and control of funds; (10) coordinates the preparation of the corrective action plan (CAP), which is submitted quarterly to OMB and reflects the material weaknesses and reportable conditions from the annual CFO audit and the Federal Managers' Financial Integrity Act (FMFIA) report; (11) manages and coordinates Agency budget execution, including the apportionment and allotment processes, overhead and assessment changes, and monitoring of overall expenditures; (12) responsible for the development and maintenance of a system of financial information which involves the collection, organization, and maintenance of financial data in electronic form as well as the development of reporting mechanisms for making the financial information useful and available for decision making; (13) manages the agency's improper payment reduction initiatives which include recovery auditing, program risk assessments, estimating and reducing improper payments for high risk programs and reporting to OMB, Congress, and others; and (14) provides analyses of high risk programs and improper payment identification strategies and formulates recommendations on best approaches to meeting the requirements of the Improper Payments Information Act of 2002 (IPIA) and other related legislation, regulation and policy.

Division of Grants Management (MGB)

(1) Conducts all aspects of the SAMHSA grants management process; (2) develops, implements, and coordinates the application of Agency standards, methods and procedures for the management of grants and cooperative agreements; (3) provides guidance to the Agency, applicants, and grantees on the management and administrative aspects of grant programs; (4) reviews applications, reports, and active projects to ensure compliance with management policies and procedures; (5) prepares, processes, and disseminates award documents; (6) prepares special and recurring reports relating to applications and awards; (7) measures and tracks grants management performance; (8) provides leadership in managing Department and agency cost policy and promotes cost efficiency in operations and individual grants; and (9) supports Government-wide electronic grant initiative.

Formula Grants Branch (MGBA)

(1) Develops and implements SAMHSA policies and procedures and performs the business management activities for all mandatory grants and all prevention services discretionary grants and cooperative agreements; (2) interprets higher level policies and procedures, advises grant and program staff on the effect and implementation activities required; (3) conducts Agency grant and cooperative agreement business management services for all discretionary prevention services grants and all mandatory grants; and (4) issues notices of Grant Award.

Discretionary Grants Branch (MGBB)

(1) Develops and implements SAMHSA policies and procedures and performs the business management activities for mental health and substance abuse treatment discretionary grants and cooperative agreements; (2) interprets higher level policies and procedures, advises grant and program staff on the effect and implementation activities required; (3) conducts Agency grant and cooperative agreement business management services for all discretionary treatment grants; and (4) issues notices of Grant Award.

Division of Grant Review (MGC)

Formulates SAMHSA-wide policies governing the review, scoring, and reporting of the review of grant applications. Participates in Department grant policy making workgroups and supports government wide electronic grant application initiatives. Provides assistance to potential applicants on grant review processes and electronic filing via GRANTS.GOV. Reviews SAMHSA strategic Initiatives and Plans, meets with Strategic Initiative Leaders and Center program staff to identify types of expertise needed for future review cycles and recruits and orients new reviewers to governing policies and procedures. Provides oversight and assessment of the grant application review function. Evaluates the adequacy of reviews and assesses the extent to which reviews provide a prognosis for grantee success. Aggregates data from a variety of sources for the purpose of identifying the need for alternative approaches. Develops new and improved grant review procedures to bring SAMHSA to the cutting edge of new ideas in grant application management and review. Reviews trends in both public and private sectors evaluating new approaches in a systematic method.

Division of Contracts Management (MGD)

(1) Conducts all aspects of the SAMHSA contracts management process; (2) develops and implements standards and procedures for the management of the Agency's contracts and purchase card programs; (3) reviews and evaluates contract proposals to determine acceptability and cost reasonableness; (4) advises Agency personnel on contracts management policies and procedures established by law and Agency guidelines; (5) maintains internal control over the contracts management function; (6) issues contract awards following appropriate laws, regulations, guidelines and policies; (7) coordinates and participates in all phases of the acquisition cycle, including pre-solicitation, solicitation, negotiation, award, administration, and close out of the Agency's contracts; (8) measures and tracks contract management performance; (9) provides leadership in areas of managing cost policy and is responsible for implementing agency cost efficiency goals; (10) provides leadership to reduce reliance on high-risk contracting by increasing competition and shifting performance contracts to measures of impact; and (11) develops initiatives to cut contracting costs and works with program staff to improve cost efficiencies in contract solicitations and awards.

Division of Management Services (MGE)

(1) Provides leadership for, and implementation of, SAMHSA's human capital management, business management, and transformation and related services; (2) provides and/or coordinates with other service providers the provision of all human resources management services (e.g., for Civil Service, Commissioned Corps, intern programs, etc.), equal employment opportunity services, employee and labor relations services, and personnel security services, working with DHHS service components and outside organizations as necessary and monitoring performance; (3) provides advisory and other services to support planning, implementing and evaluating organizational structures, policies and procedures (e.g., by consulting on performance, organizational streamlining, business process re-engineering, change management and establishment of meaningful metrics and successful data collection strategies; and (4) develops, maintains, and manages systems regarding policies and procedures.

Human Capital and Business Management Branch (MGEA)

Provides leadership for, and implementation of, certain human capital management, business management, and transformation and related services, including coordination and oversight of: (1) SAMHSA's Performance Management Appraisal Program implementation, closeout and related Departmental reporting; (2) SAMHSA's Performance Award Management System; (3) SAMHSA's SES Performance Plan implementation and closeout; (4) SAMHSA's SES Performance Review Board (PRB); (5) Department-level awards for SAMHSA nominees; (6) SAMHSA interagency awards and employee recognition; (7) SAMHSA's Learning Education and Development training program; (8) Student programs [e.g., Presidential Management Fellows; Pathways Program; student volunteers; etc.]; (9) SAMHSA's Internship Program; (10) SAMHSA's Telework program and Electronic Telework Approval System; (11) DMS Records Management liaison duties; (12) DMS Delegations of Authority; (13) Departmental reporting on Branch responsibilities; and (14) Inter-agency employee moves.

Human Resources Liaison and Data Branch (MGEB)

(1) Provides leadership, coordination, implementation, and oversight of certain human resources services; (2) provides and/or coordinates with other service providers the provision of SAMHSA services for the Civil Service; (3) monitors performance on recruitment and hiring; (4) maintains all data support and reporting relative to human resources management; (5) provides advisory and other services to support planning, implementing and evaluating organizational structures, position descriptions, policies and procedures; and (6) design, plan and conduct agency-wide evaluations to determine the effectiveness of human resources programs in supporting the accomplishment of the SAMHSA's mission, and the extent to which human resources programs comply with Federal law, regulations, and Departmental guidance.

Proposed Functional Statements

Office of Management, Technology, and Operations (MB)

The Office of Management, Technology and Operations (OMTO) provides Agency leadership and executive support for information technology and agency administrative and operational services. The OMTO provides executive oversight over technology management functions by integrating planning, optimization, operation and control of technological products, processes and services for the Agency and serving as the liaison with HHS ITIO on consolidated services. Finally, OMTO coordinates and directs a broad range of administrative and operational services that allow the Agency to operate efficiently. OMTO provides oversight for travel, ITAS, and purchasing agency-wide; facilities maintenance and operations; major property and equipment procurement; and inventory management. Additionally, the office manages and oversees centralized operations that address crosscutting Department and Government-wide efforts, including sustainability, records management, telecommunications management, privacy, IT security, government ethics and continuity of operations planning.

Office of the Director (MB-1)

Coordinates agency participation with Department of Health and Human Services on an array of administrative activities; (2) Provides leadership and guidance, oversees and monitors the range of administrative, policy, program services, and IT support services which are provided to all SAMHSA components; (3) provides general policy review and executive oversight of cross-cutting management and administrative issues; (4) streamlines, improves, and integrates administrative services and systems; (5) coordinates cross-cutting tasks and initiatives; (6) tracks and measures administrative program performance, and ethics; and (7) manages the SAMHSA ethics program.

Division of Operational Support (MBH)

(1) Provides centralized administrative services for the Agency, including processing and coordinating requests for, and providing advice on, procurement actions, travel, property, facilities, timekeeping and mail services as well as r(2) coordinates actions as necessary with other HHS components such as the Program Support Center (PSC), the HHS Office of the Assistant Secretary for Administration (HHS/ASA) and the contract travel agency; (3) processes and coordinates requests for SAMHSA administrative actions; (4) provides advice and guidance to staff on administrative procedures for processing actions such as travel orders, acquisition requests, credit card purchases, office moves, and training documents; (5) ensures administrative actions are consistent with regulations and other requirements, and implements general management policies as prescribed by SAMHSA and higher authorities; (6) coordinates the provision of support in the areas of real and personal property, building management, facility management, health and safety, logistics, security, transportation, parking, and telecommunications; (7) manages Program Management funds including performing budget execution tasks such as certifying funds, maintaining the commitment database, and reconciling accounts for program management for SAMHSA; (8) coordinates and complies with policies and procedures set forth by the Office of Financial Resources (OFR) for budget execution and formulation; and (9) manages continuity of operations (COOP) for the Agency and serves as pan-flu liaison for the Office of Management, Technology and Operations (OMTO).

Administrative Operations Branch (MBHC)

Provides services to support the Agency's administrative functions including (1) researching, analyzing and evaluating financial obligations and providing budget services for program management funds; (2) analyzing administrative matters impacting Office/Center serviced and developing work plans, and formulating recommendations for modifications of procedures; (3) monitoring and evaluating the effectiveness and efficiency of practices and policies within the Division to simplify operations and/or establish control systems for accurate and timely planning and reporting; (4) interpreting policies, procedures and practices concerning travel and reimbursement for travel expenses and preparing travel documents for travelers; (5) serving as System Administrator for the automated travel system; (6) reviewing and analyzing proposed small acquisitions under $100,000, ensuring appropriate guidelines, processing and procedural requirements are met; (7) providing managers and staff of SAMHSA with guidance, technical support, and training regarding travel, purchases, and related administrative matters; (8) providing training on various administrative systems, such as travel, federal charge cards, small acquisitions, etc.; (9) developing, monitoring and maintaining staffing status rosters; (10) time and attendance services; analyzing leave and pay discrepancies; training new timekeepers and leave approving officials, updating staff on new leave policies; (11) processing of identification badges and personnel security controls (12) working with components of the HHS/ASA and reporting on various aspects of travel, procurement, conferences, etc.; (13) managing conference policy and procedures for the Agency; and 14) Monitoring and Managing the agency's travel card program.

Building, Logistics, and Telecommunications Branch (MBHB)

Provides services to support the Agency in (1) building operations including security, interagency agreements and meeting logistics, facilities management, building equipment including installation and removal, oversight of SAMHSA security, purchasing and maintenance, audio visual services, mail services, PIV badging replacements including renewals and damages, property management and GSA vehicle driver services; (2) logistical requirements including building moves, space management, property management, real property management, parking maintenance, managing and monitoring childcare and Transhare subsidy programs, and other Federal Occupational Health provided programs, Safety and Health Officer responsibilities, environmental issues, oversee and assist in all furniture needs from moves to repairs, management of signage, specification for and arrangement of reasonable accommodations, management of shipping and receiving services, and labor services; (3) telecommunication and related services including desk phone services, copier control, conference room management, long distance phone services, audio conferences; and (4) COOP, emergency preparedness.

Division of Technology Management (MBJ)

Provides leadership in the development of policies for and the analysis, performance measurement, and improvement of SAMHSA information systems; (2) manages, operates, and enhances SAMHSA-wide administrative applications software systems; (3) coordinates with other service providers the provision of information technology services, including operation of the local and SAMHSA managed IT Infrastructure, Government Furnished Equipment (GFE); personal computers, laptop, printers, iPhones network servers, databases, scanners etc. and general computer repairs, working with DHHS service components and outside organizations as necessary and monitoring their performance; (4) serves as the Agency focal point for information technology policy, strategic planning, budget preparation, FITARA, coordination with the Department regarding these issues and the submission of required reports to the Department on a timely basis; (5) reviews and analyzes new advances in technology to further SAMHSA's leadership in technological capabilities; (6) ensures necessary support services are available, implemented, and managed to ensure SAMHSA is able to fulfill its mission; (7) ensures that the appropriate level of information technology cybersecurity is in place so that the safety of Agency data can be assured; (8) oversees Agency-wide database administration and systems configuration management, providing advice, assistance, and training to Agency staff to obtain maximum utilization of and services from its information/application systems and databases; (9) exercises clearance authority for Agency information technology management projects; and (10) serves as the Agency focal point for all technology issues relating to the Intranet/internet activities; (11) ensure that agency records management program activities and special projects are implemented across SAMHSA.

Delegation of Authority

All delegations and re-delegations of authority made to SAMHSA officials that were in effect immediately prior to this reorganization, and that are consistent with this reorganization, shall continue in effect pending further re-delegation.

Summer King,
Statistician.

[FR Doc. 2019-06143 Filed 3-28-19; 8:45 am]

BILLING CODE 4160-01-P